COMMITTEE FOR PURCHASE FROM PEOPLE WHO ARE BLIND OR SEVERELY DISABLED

Procurement List; Proposed Addition and Deletion

ACTION: Proposed Additions to and Deletions from the Procurement List.

SUMMARY: The Committee is proposing to add to the Procurement List a product to be furnished by nonprofit agencies employing persons who are blind or have other severe disabilities, and to delete a product previously furnished by such agencies.

Comments Must Be Received On or Before: December 9, 2007.

ADDRESSES: Committee for Purchase From People Who Are Blind or Severely Disabled, Jefferson Plaza 2, Suite 10800, 1421 Jefferson Davis Highway, Arlington, Virginia 22202-3259.

For Further Information or To Submit Comments Contact: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Addition

If the Committee approves the proposed addition, the entities of the Federal Government identified in this notice for each product will be required to procure the product listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product to the Government.

2. If approved, the action will result in authorizing small entities to furnish the product to the Government.

3. There are no known regulatory alternatives which would accomplish the objectives of the Javits-Wagner-O'Day Act (41 U.S.C. 46-48c) in connection with the product proposed for addition to the Procurement List.

Comments on this certification are invited. Commenters should identify the statement(s) underlying the certification on which they are providing additional information.

End of Certification

The following product is proposed for addition to Procurement List for production by the nonprofit agencies listed:

Product

Trousers, Men's Navy Work Uniforms (NWU)—03299 (All Sizes)

Trousers, Women's Navy Work Uniforms (NWU)—03299 (All Sizes)

Blouse, Men's Navy Work Uniforms (NWU)—03301 (All Sizes)

Blouse, Women's Navy Work Uniforms (NWU)—03301 (All Sizes)

Coverage: 100,000 sets in any combination of the above products. C-List for the requirements of the Defense Supply Center Philadelphia, Philadelphia, PA.

NPA: ReadyOne Industries, Inc., El Paso, TX

Contracting Activity: Defense Supply Center Philadelphia, Philadelphia, PA

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the product to the Government.

3. There are no known regulatory alternatives which would accomplish the objectives of the Javits-Wagner-O'Day Act (41 U.S.C. 46-48c) in connection with the product proposed for deletion from the Procurement List.

Comments on this certification are invited. Commenters should identify the statement(s) underlying the certification on which they are providing additional information.

End of Certification

The following product is proposed for deletion from the Procurement List:

Product

Shirt, Women's, Poly/Wool, Blue, Navy, Long Sleeve, Class 2, Tropical, w/o Epaulet:

NSN: 8410-01-229-9439

NSN: 8410-01-229-9443

NSN: 8410-01-229-9447

NSN: 8410-01-229-9451

NSN: 8410-01-229-9455

NSN: 8410-01-229-9456

NSN: 8410-01-229-9459

NSN: 8410-01-229-9463

NSN: 8410-01-229-9467

NSN: 8410-01-229-9471

NSN: 8410-01-229-9475

NSN: 8410-01-229-9483

NSN: 8410-01-229-9487

NSN: 8410-01-229-9499

NSN: 8410-01-229-9500

NPA: Middle Georgia Diversified Industries, Inc., Dublin, GA.

Contracting Activity: Defense Supply Center Philadelphia, Philadelphia, PA.

Patrick Rowe,
Acting Executive Director.

[FR Doc. E7-22037 Filed 11-8-07; 8:45 am]

BILLING CODE 6353-01-P